DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 18, 2015.

ADDRESSES: Send comments to Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on October 5, 2015.
Donald Burger,
Chief, General Approvals and Permits.

Application No. | Docket No. | Applicant | Regulation(s) affected | Nature of special permit thereof
NEW SPECIAL PERMITS
16571-N |  | Chevron USA Inc., San Ramon, CA | 49 CFR 172.101, Hazardous Materials Table Column (9A) | To authorize the transportation in commerce of certain hazardous materials which exceed the authorized quantity limitations or are forbidden aboard passenger-carrying aircraft. (mode 5).
16574-N |  | Veolia ES Technical Solutions, L.L.C., Lombard, IL | 49 CFR 173.21(b), 173.51, 173.54(a), 173.56(b) | To authorize the one-time transportation in commerce of certain unapproved fireworks from the Aberdeen Proving Ground military facility located in Aberdeen, MD to Veolia ES Technical Solutions, L.L.C.'s disposal facility located in Sauget, IL for final disposal. (mode 1).
16575-N |  | FIBA Technologies, Inc., Littleton, MA | 49 CFR 172.203(a), 178.35(c)(3)(v), 178.70(e)(1) | To authorize the manufacture, mark, sale and use of certain specifica- tion DOT 3AA, 3AAX, and 3T cylinders and UN ISO 11120 tubes that were witnessed during manufacture with real-time video feeds by an Independent Inspection Agency for certain tests. (modes 1, 2, 3, 4).
16578-N |  | Schlumberger Technology Corporation, Sugar Land, TX | 49 CFR 173.201(c), 173.202(c), 173.203(c), 173.301(f), 173.302a, 173.304a | To authorize the manufacture, mark, sale and use of non-DOT specification cylinders without pressure relief devices for the transportation in commerce of certain hazardous materials. (modes 1, 2, 4).
16584-N |  | Visuray LLC, Houston, TX | 49 CFR 171.180 | To authorize the transportation in commerce of sulfur hexafluoride in a non-DOT specification cylinder. (modes 1, 2, 4, 5).
16587-N |  | Mobis Parts America, LLC, Fountain Valley, CA | 49 CFR 172.102(c)(2), Special Provision A54, ICAO TI Special Provision A99 | To authorize the transportation in commerce of lithium ion batteries exceeding a net weight of 35 kg when transported aboard cargo aircraft. (mode 4).

[FR Doc. 2015-26257 Filed 10-16-15; 8:45 am]

BILLING CODE 4910-60-M